DEPARTMENT OF THE INTERIOR

Office of the Secretary

25 CFR Ch. I

30 CFR Chs. II and VII

36 CFR Ch. I

43 CFR Subtitle A, Chs. I and II

48 CFR Ch. 14

50 CFR Chs. I and IV

Semiannual Regulatory Agenda

AGENCY: Office of the Secretary, Interior.

ACTION: Semiannual regulatory agenda.

SUMMARY: This notice provides the semiannual agenda of rules scheduled for review or development between fall 2012 and spring 2013. The Regulatory Flexibility Act and Executive Order 12866 require publication of the agenda.

ADDRESSES: Unless otherwise indicated, all agency contacts are located at the Department of the Interior, 1849 C Street NW., Washington, DC 20240.

FOR FURTHER INFORMATION CONTACT: You should direct all comments and inquiries about these rules to the appropriate agency contact. You should direct general comments relating to the agenda to the Office of Executive Secretariat and regulatory Affairs, Department of the Interior, at the address above or at 202-208-3181.

SUPPLEMENTARY INFORMATION: With this publication, the Department satisfies the requirement of Executive Order 12866 that the Department publish an agenda of rules that we have issued or expect to issue and of currently effective rules that we have scheduled for review.

Simultaneously, the Department meets the requirement of the Regulatory Flexibility Act (5 U.S.C. 601 et seq.) to publish an agenda in April and October of each year identifying rules that will have significant economic effects on a substantial number of small entities. We have specifically identified in the agenda rules that will have such effects.

This edition of the Unified Agenda of Federal Regulatory and Deregulatory Actions includes The Regulatory Plan, which appears in both the online Unified Agenda and in part II of the Federal Register that includes the Unified Agenda. The Department's Statement of Regulatory Priorities is included in the Plan.

Mark Lawyer,
Federal Register Liaison Officer.

United States Fish and Wildlife Service—Prerule Stage
Sequence No. | Title | Regulation Identifier No.
326 | National Wildlife Refuge System; Oil and Gas Regulations | 1018-AX36

National Park Service—Final Rule Stage
Sequence No. | Title | Regulation Identifier No.
327 | Winter Use—Yellowstone National Park | 1024-AE10

Bureau of Ocean Energy Management—Completed Actions
Sequence No. | Title | Regulation Identifier No.
328 | Revised Requirements for Well Plugging and Platform Decommissioning | 1010-AD61

Office of Surface Mining Reclamation and Enforcement—Proposed Rule Stage
Sequence No. | Title | Regulation Identifier No.
329 | Stream Protection Rule | 1029-AC63

DEPARTMENT OF THE INTERIOR (DOI)

United States Fish and Wildlife Service (FWS)

Prerule Stage

326. National Wildlife Refuge System; Oil and Gas Regulations

Legal Authority: 16 U.S.C. 668dd-ee; 42 U.S.C. 7401 et seq.; 16 U.S.C. 1131 to 1136; 40 CFR 51.300 to 51.309

Abstract: We propose regulations that ensure that all operators conducting oil or gas operations within a National Wildlife Refuge System unit do so in a manner as to prevent or minimize damage to National Wildlife Refuge System resources, visitor values, and management objectives. FWS does not intend these regulations to result in a taking of a property Interest, but rather to impose reasonable controls on operations that affect federally owned or controlled lands and/or waters.

Timetable:

Action | Date | FR Cite
ANPRM | 01/00/13

Regulatory Flexibility Analysis Required: Yes.

Agency Contact: Scott Covington, Refuge Energy Program Coordinator, Department of the Interior, United States Fish and Wildlife Service, National Wildlife Refuge System, 4401 North Fairfax Drive, Arlington, VA 22203, Phone: 703 358-2427, Email: scott_covington@fws.gov.

Paul Steblein, Refuge Program Specialist, Department of the Interior, United States Fish and Wildlife Service, Suite 670, 4401 North Fairfax Drive, Arlington, VA 22203, Phone: 703 358-2678, Fax: 703 358-1929, Email: paul_steblein@fws.gov.

RIN: 1018-AX36

BILLING CODE 4310-55-P

DEPARTMENT OF THE INTERIOR (DOI)

National Park Service (NPS)

Final Rule Stage

327. Winter Use—Yellowstone National Park

Legal Authority: 16 U.S.C. 1; 16 U.S.C. 3; 16 U.S.C. 9a

Abstract: The park has managed winter use with an interim rule that only authorized snowmobile and snowcoach use through the end of the 2011-2012 winter season. This new rule would extend the interim regulations for one more year in order to allow the National Park Service time to develop a long-term regulation.

Timetable:

Action | Date | FR Cite
Final Action | 12/00/12

Regulatory Flexibility Analysis Required: Yes.

Agency Contact: Russ Wilson, Chief Regulations and Special Park Uses, Department of the Interior, National Park Service, 1849 C Street NW., Washington, DC 20240, Phone: 202 208-4206, Email: russ_wilson@nps.gov.

RIN: 1024-AE10

BILLING CODE 4310-70-P

DEPARTMENT OF THE INTERIOR (DOI)

Bureau of Ocean Energy Management (BOEM)

Completed Actions

328. Revised Requirements for Well Plugging and Platform Decommissioning

Legal Authority: 31 U.S.C. 9701; 43 U.S.C. 1334

Abstract: This rule would establish timely submission requirements for decommissioning and abandonment plans, and establish deadlines for decommissioning permits. The rule would also implement timeframes and clarify requirements for plugging and abandonment of idle wells and decommissioning idle facilities.

Completed:

Reason | Date | FR Cite
Withdrawn | 10/18/12

Regulatory Flexibility Analysis Required: Yes.

Agency Contact: Amy White, Phone: 703 787-1665, Fax: 703 787-1555, Email: amy.white@bsee.gov.

RIN: 1010-AD61

BILLING CODE 4310-VH-P

DEPARTMENT OF THE INTERIOR (DOI)

Office of Surface Mining Reclamation and Enforcement (OSMRE)

Proposed Rule Stage

329. Stream Protection Rule

Legal Authority: 30 U.S.C. 1201 et seq.

Abstract: On August 12, 2009, the U.S. District Court for the District of Columbia denied the Government's request that the court vacate and remand the Excess Spoil/Stream Buffer Zone rule published on December 12, 2008. Therefore, the Department intends to initiate notice and comment rulemaking to address issues arising from previous rulemakings. The agency also intends to prepare a new environmental impact statement.

Timetable:

Action | Date | FR Cite
ANPRM | 11/30/09 | 74 FR 62664
ANPRM Comment Period End | 12/30/09
NPRM | 04/00/13

Regulatory Flexibility Analysis Required: Yes.

Agency Contact: Dennis Rice, Regulatory Analyst, Department of the Interior, Office of Surface Mining Reclamation and Enforcement, 1951 Constitution Avenue NW., Washington, DC 20240, Phone: 202 208-2829, Email: drice@osmre.gov.

RIN: 1029-AC63

[FR Doc. 2012-31498 Filed 1-7-13; 8:45 am]

BILLING CODE 4310-05-P